DEPARTMENT OF HEALTH AND HUMAN SERVICES

Centers for Disease Control and Prevention

[Program Announcement 04053]

Practices To Improve Training Skills of Home Visitors; Notice of Availability of Funds—Amendment

A notice announcing the availability of fiscal year (FY) 2004 funds for a cooperative agreement program to conduct a systematic examination of the impact of home visitor training and factors related to the implementation of an existing efficacious or effective home visiting program on family outcomes of child maltreatment and risk behaviors for youth violence was published in the Federal Register on December 1, 2003, vol. 68, no. 230, pages 67171-67176.

The notice is amended as follows: On page 67173, column 2, lines 26-28 of the “Application” section and column 3, lines 1-2 of the continuation of the Application section, entitled “Abstract,” should be deleted. The abstract is already included on page 2 of the PHS 398 application form in the section called “Description.” On page 67174, column 1, lines 16-23 the section entitled “9. Project Budget” should be deleted. The project budget information is already included on page 4 of the PHS 398 application form.

Dated: February 23, 2004.
Sandra R. Manning,
Director, Procurement and Grants Office, Centers for Disease Control and Prevention.

[FR Doc. 04-4348 Filed 2-26-04; 8:45 am]

BILLING CODE 4163-18-P